DEPARTMENT OF ENERGY

Federal Energy Regulatory Commission

[Docket Nos. RP00-166-000 and RP00-74-002]

CNG Transmission Corporation; Notice of Proposed Changes in FERC Gas Tariff

January 21, 2000.

Take notice that on January 14, 2000, CNG Transmission Corporation (CNG), filed as part of its FERC Gas Tariff, Second Revised Volume No. 1, the following revised tariff sheets, with an effective date of February 1, 2000:

Twenty-Seventh Revised Sheet No. 31

Fourth Revised Sheet No. 190

Fourth Revised Sheet No. 191

Fourth Revised Sheet No. 192

Fourth Revised Sheet No. 193

Fifth Revised Sheet No. 194

Sixth Revised Sheet No. 195

Fourth Revised Sheet No. 196

Fourth Revised Sheet No. 197

Second Revised Sheet No. 467

CNG states that the purpose of this filing is two-fold: (1) to place into effect revised tariff sheets that would allow CNG to charge a new rate for Title Transfer Tracking Service consistent with the Commission's December 16, 1999 Letter Order, and (2) to respond to the concerns of the parties as required by the Letter Order.

CNG states that copies of its filing are being served upon the parties listed on the Official Service List of the proceeding.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

David P. Boergers,
Secretary.

[FR Doc. 00-1955 Filed 1-26-00; 8:45 am]

BILLING CODE 6717-01-M